GENERAL SERVICES ADMINISTRATION

[Notice-QP-2018-01; Docket No. 2018-0002; Sequence No. 10]

Notice of Public Meeting Concerning Procurement Through Commercial e-Commerce Portals

AGENCY: Office of Enterprise Strategy Management (QP), General Services Administration (GSA).

ACTION: Notice of a public meeting.

SUMMARY: GSA and the Office of Management and Budget (OMB) are interested in conducting further dialogue with industry about Section 846 of the National Defense Authorization Act (NDAA) for Fiscal Year 2018, Procurement through Commercial e-Commerce Portals. A public meeting was held on January 9, 2018 to provide external stakeholders an initial opportunity to offer input on Phase I implementation as outlined in Section 846. A second public meeting is scheduled for June 21, 2018, where GSA and OMB will share insights on our proposed approach and solicit feedback and insights from industry to inform our Phase II deliverable.

DATES: Meeting Date: GSA and OMB are holding a modified town-hall style public meeting on Thursday, June 21, 2018, from 8:30 a.m. until 1:00 p.m., EST (Eastern Standard Time). The public is asked to register by Thursday, June 14, 2018, due to security and seating limitations. To register, please visit the Commercial Platform Interact group page on https://interact.gsa.gov/group/commercial-platform-initiative, and utilize the in-person registration link provided. Further information for the public meeting may be found under the heading SUPPLEMENTARY INFORMATION. GSA will also be posting more detailed information on our Commercial Platform Interact group page.

ADDRESSES: The meeting will be held in the GSA Auditorium at GSA Headquarters located at 1800 F St. NW, Washington, DC 20405. Interested parties may also attend virtually through GSA's virtual meeting platform, hosted by Adobe Connect. Further details on the virtual meeting will be made available a few days before the meeting on the Commercial Platform Interact group page on https://interact.gsa.gov/group/commercial-platform-initiative.

FOR FURTHER INFORMATION CONTACT: For information pertaining to the public meeting and for a posting of the agenda (made available a few days prior to the meeting), visit the Commercial Platform Interact group page located at https://interact.gsa.gov/group/commercial-platform-initiative. For more specific questions, please contact Jasmine Schaaphok at jasmine.schaaphok@gsa.gov, or 571-330-3941. For information pertaining to only status or publication schedules, contact the Regulatory Secretariat at 202-501-4755. Please cite “Notice QP-2018-01, Notice of Public Meeting Concerning Procurement through Commercial e-Commerce Portals”.

SUPPLEMENTARY INFORMATION:

A. Background

The General Services Administration's mission is to deliver value and savings in real estate, acquisition, technology, and other mission-support services across Government. For decades, GSA has provided access to commercial products through a number of channels including GSA Advantage!, GSA eBuy, GSA Global Supply, and the Federal Supply Schedules.

GSA has long been focused on improving the acquisition of commercial items. Throughout its history, GSA has sought to leverage the best available technology to help agencies shorten the time to delivery, reduce administrative cost, make compliance easier, be a strategic thought leader and supplier of choice across the Federal Government, and be a good partner to industry. Today, the best available technology includes commercial e-commerce portals.

The National Defense Authorization Act (NDAA) for Fiscal Year 2018, Section 846, Procurement Through Commercial e-Commerce Portals, directs the Administrator of the GSA to establish a program to procure commercial products through commercial e-commerce portals. Section 846 paragraph (c) instructs the “Director of the Office of Management and Budget, in consultation with the GSA Administrator and the heads of other relevant departments and agencies,” to carry out three implementation phases. OMB and GSA completed Phase I, an initial implementation plan, in March of 2018. The plan, found at https://interact.gsa.gov/document/gsa-and-omb-phase-i-deliverable-attached, discusses government and industry stakeholder goals and concerns, the different types of portal provider models currently prevalent in the commercial market, and areas where legislative change or clarification are required to enable flexibility in the full and effective use of commercial e-commerce portals in accordance with the goals of section 846. The plan also outlines deliverables anticipated to be completed in FYs 18, 19, and 20. This public meeting is in conjunction with the request for written comments being solicited through “Notice QP-2018-02, Request for information from Suppliers Selling on Commercial e-Commerce Portals,” and “Notice QP-2018-03, Request for information from Platform Providers of Commercial e-Commerce Portals.” These requests for information (RFIs) are expected to be published in the Federal Register in early June.

The team is currently working on Phase II with the intent of delivering a proof of concept near the end of FY19. Phase II of the legislation requires (excerpt below):

(2) PHASE II: MARKET ANALYSIS AND CONSULTATION.—Not later than one year after the date of the submission of the implementation plan and schedule required under paragraph (1), recommendations for any changes to, or exemptions from, laws necessary for effective implementation of this section, and information on the results of the following actions:

(A) Market analysis and initial communications with potential commercial e-commerce portal providers on technical considerations of how the portals function (including the use of standard terms and conditions of the portals by the Government), the degree of customization that can occur without creating a Government-unique portal, the measures necessary to address the considerations for supplier and product screening specified in subsection (e), security of data, considerations pertaining to nontraditional Government contractors, and potential fees, if any, to be charged by the Administrator, the portal provider, or the suppliers for participation in the program established pursuant to subsection (a).

(B) Consultation with affected departments and agencies about their unique procurement needs, such as supply chain risks for health care products, information technology, software, or any other category determined necessary by the Administrator.

(C) An assessment of the products or product categories that are suitable for purchase on the commercial e-commerce portals.

(D) An assessment of the precautions necessary to safeguard any information pertaining to the Federal Government, especially precautions necessary to protect against national security or cybersecurity threats.

(E) A review of standard terms and conditions of commercial e-commerce portals in the context of Government requirements.

(F) An assessment of the impact on existing programs, including schedules, set-asides for small business concerns, and other preference programs.

In furtherance of Phase II objectives, GSA is planning to share information related to the approach proposed in the Phase I deliverable and respond to questions from industry. Additionally, the team is seeking feedback from providers of commercial e-commerce portal as well as suppliers selling on commercial e-commerce portals in certain topic areas, as listed in “Notice QP-2018-02, Request for information from Suppliers Selling on Commercial e-Commerce Portals,” and “Notice QP-2018-03, Request for information from Platform Providers of Commercial e-Commerce Portals.”

B. Public Meeting

In-person Attendance: Registration check-in will begin at 7:30 a.m., EST, on June 21, 2018, with the meeting starting promptly at 8:30 a.m., EST. Attendees must be prepared to present a form of government-issued photo identification.

Format: GSA and OMB intend to conduct a modified town-hall/panel style discussion focused around two main topics.

1. GSA and OMB will discuss and field questions related to the findings from Phase I of the implementation plan, initial thoughts on Phase II, and the implementation of a proof of concept in FY19.

2. GSA intends to organize a panel discussion around the questions asked to portal providers and suppliers on portals found in RFIs “Notice QP-2018-02, Request for information from Suppliers Selling on Commercial e-Commerce Portals,” and “Notice QP-2018-03, Request for information from Platform Providers of Commercial e-Commerce Portals.”

Parties wishing to participate as a panel member in the public meeting scheduled for June 21, 2018, should email section846@gsa.gov by Thursday, June 14, 2018, with the subject line “Request to be panelist at upcoming public meeting” and should identify their company, role in company, and a short statement about their interest/qualifications for being a panelist.

GSA will select panelists from among those expressing interest and will formally notify them no later than Monday, June 18, 2018. In selecting panelists, GSA will seek an array of perspectives, backgrounds, and views. Requests made after the deadline to participate on a panel cannot be accepted due to the tight timelines.

Meeting Accommodations: The public meeting is physically accessible to people with disabilities. Request for sign language interpretation or other auxiliary aids should be directed to section846@gsa.gov by Thursday, June 14, 2018. Please see the Commercial Platform Interact group page at https://interact.gsa.gov/group/commercial-platform-initiative for additional information on public meeting content and for a posting of the agenda (to be made available a few days prior to the meeting). For more specific questions, please send an email to section846@gsa.gov.

Dated: May 25, 2018.
Laura J. Stanton,
Assistant Commissioner, Office of Enterprise Strategy Management, Federal Acquisition Service, General Services Administration.

[FR Doc. 2018-11717 Filed 5-30-18; 8:45 am]

BILLING CODE 6820-89-P